SUSQUEHANNA RIVER BASIN COMMISSION

Public Hearing

AGENCY: Susquehanna River Basin Commission.

ACTION: Notice.

SUMMARY: The Susquehanna River Basin Commission will hold a public hearing on January 29, 2026. The Commission will hold this hearing in person and telephonically. At this public hearing, the Commission will hear testimony on the projects and actions listed in the Supplementary Information section of this notice. Such projects and actions are intended to be scheduled for Commission action at its next business meeting, scheduled for March 12, 2026, which will be noticed separately. The public should note that this public hearing will be the only opportunity to offer oral comments to the Commission for the listed projects and actions. The deadline for the submission of written comments is February 9, 2026.

DATES: The public hearing will convene on January 29, 2026, at 5:00 p.m. The public hearing will end at 8:00 p.m. or at the conclusion of public testimony, whichever is earlier. The deadline for submitting written comments is Monday, February 9, 2026.

ADDRESSES: This public hearing will be conducted in person and telephonically. You may attend in person at Susquehanna River Basin Commission, 4423 N Front St., Harrisburg, Pennsylvania, or join by telephone at Toll-Free Number 1-877-304-9269 and then enter the guest passcode 2619070 followed by #.

FOR FURTHER INFORMATION CONTACT: Jason Oyler, General Counsel and Secretary to the Commission, telephone: (717) 238-0423 or joyler@srbc.gov.

Information concerning the project applications is available at the Commission's Water Application and Approval Viewer at https://www.srbc.gov/waav. The proposed updated Statement of Investment Policy, Objectives and Guidelines is available on the Commission's website at https://www.srbc.gov/regulatory/public-participation/. Additional supporting documents are available to inspect and copy in accordance with the Commission's Access to Records Policy at www.srbc.gov/regulatory/policies-guidance/docs/access-to-records-policy-2009-02.pdf.

SUPPLEMENTARY INFORMATION: The Commission is seeking comment on a proposed update to its Statement of Investment Policy, Objectives and Guidelines. The goal of this statement is to outline the parameters under which the Commission may invest its funds to mitigate risk while allowing growth of the Commission's fiscal resources. The public hearing will also cover the following projects:

Projects Scheduled for Action

1. Project Sponsor: Amazon Data Services, Inc. Project Facility: PHL100 Data Center Campus, Salem Township, Luzerne County, Pa. Modification to increase consumptive use by an additional 0.217 mgd (30-day average), for a total consumptive use of up to 0.277 mgd (30-day average) (Docket No. 20240901).

2. Project Sponsor and Facility: Bloomfield Borough Water Authority, Centre Township, Perry County, Pa. Application for renewal of groundwater withdrawal of up to 0.053 mgd (30-day average) from Well 2 (Docket No. 20011001).

3. Project Sponsor and Facility: Borough of Mifflinburg, West Buffalo Township, Union County, Pa. Application for renewal of groundwater withdrawal of up to 0.640 mgd (30-day average) from Well PW-1 (Docket No. 19931104).

4. Project Sponsor and Facility: City of Oneonta, Otsego County, NY. Application for renewal of groundwater withdrawal of up to 0.689 mgd (30-day average) from Well 1 (Docket No. 19920303).

5. Project Sponsor: Galen Hall Holding Corp. Project Facility: Galen Hall Country Club, Inc., South Heidelberg Township, Berks County, Pa. Application for renewal of consumptive use of up to 0.249 mgd (30-day average) (Docket No. 20021017).

6. Project Sponsor: Heidelberg Materials Northeast LLC. Project Facility: Wrightsville Quarry, Hellam Township and Wrightsville Borough, York County, Pa. Application for consumptive use of up to 0.178 mgd (30-day average).

7. Project Sponsor and Facility: Highlands of Donegal LLC, East Donegal Township, Lancaster County, Pa. Application for renewal of consumptive use of up to 0.249 mgd (30-day average) (Docket No. 20020210).

8. Project Sponsor and Facility: Houtzdale Municipal Authority, Rush Township, Centre County, Pa. Applications for renewal of groundwater withdrawals (30-day averages) of up to 0.580 mgd from Well TH-4, 0.430 mgd from Well TH-5, and 1.150 mgd from Well TH-10 (Docket No. 19950101).

9. Project Sponsor: KH Holdings, LLC. Project Facility: KH Spring Waters, LLC, North Union Township, Schuylkill County, Pa. Application for consumptive use of up to 0.075 mgd (peak day).

10. Project Sponsor: Mott's LLP. Project Facility: Aspers Plant, Menallen Township, Adams County, Pa. Applications for renewal of groundwater withdrawals (30-day averages) of up to 0.181 mgd from Well 7, 0.165 mgd from Well 9, and 0.236 mgd from Well 10; renewal with modification to increase to 0.396 mgd from Well 11; and consumptive use of up to 0.990 mgd (peak day) (Docket Nos. 19940303 and 20010204).

11. Project Sponsor and Facility: PEI Power LLC, Archbald Borough, Lackawanna County, Pa. Applications for renewal of surface water withdrawals (peak day) of up to 0.530 mgd from White Oak Run and 0.530 mgd from Laurel Run, and consumptive use of up to 0.530 mgd (peak day) (Docket No. 20010406).

12. Project Sponsor: Pennsylvania—American Water Company. Project Facility: Philipsburg/Moshannon District, Rush Township, Centre County, Pa. Applications for renewal of groundwater withdrawals (30-day averages) of up to 0.530 mgd from Trout Run Well 1 and 0.720 mgd from Trout Run Well 2 (Docket No. 20010202).

13. Project Sponsor and Facility: Town of Erwin, Steuben County, NY. Applications for renewal of groundwater withdrawals (30-day averages) of up to 0.576 mgd from Well 2 and 0.576 mgd from Well 3 (Docket No. 20070602).

14. Project Sponsor: Tyoga Inc. Project Facility: Tyoga Golf Course, Delmar Township, Tioga County, Pa. Application for renewal of consumptive use of up to 0.249 mgd (30-day average) (Docket No. 20011010).

15. Project Sponsor: Veolia Water Pennsylvania, Inc. Project Facility: Newberry Operation, Newberry Township, York County, Pa. Application for renewal of groundwater withdrawal of up to 0.121 mgd (30-day average) from the Paddletown Well (Docket No. 20090917).

16. Project Sponsor: Victaulic Company. Project Facility: Lawrenceville Facility, Lawrence Township, Tioga County, Pa. Application for renewal of consumptive use of up to 0.200 mgd (30-day average) (Docket No. 19960901).

Opportunity To Appear and Comment

Interested parties may appear or call into the hearing to offer comments to the Commission on any business listed above required to be the subject of a public hearing. Given the nature of the meeting, the Commission strongly encourages those members of the public wishing to provide oral comments to pre-register with the Commission by emailing Jason Oyler at joyler@srbc.gov before the hearing date. The presiding officer reserves the right to limit oral statements in the interest of time and to control the course of the hearing otherwise. Access to the hearing via telephone will begin at 5:45 p.m. Guidelines for the public hearing are posted on the Commission's website, www.srbc.gov, before the hearing for review. The presiding officer reserves the right to modify or supplement such guidelines at the hearing. Written comments on any business listed above required to be the subject of a public hearing may also be mailed to Mr. Jason Oyler, Secretary to the Commission, Susquehanna River Basin Commission, 4423 North Front Street, Harrisburg, Pa. 17110-1788, or submitted electronically through https://www.srbc.gov/meeting-comment/default.aspx?type=2&cat=7. Comments mailed or electronically submitted must be received by the Commission on or before Monday, February 9, 2026.

Authority: Pub. L. 91-575, 84 Stat. 1509 et seq., 18 CFR parts 806, 807, and 808.

Dated: December 30, 2025.
Jason E. Oyler,
General Counsel and Secretary to the Commission.

[FR Doc. 2025-24201 Filed 12-31-25; 8:45 am]

BILLING CODE 7040-01-P